SUSQUEHANNA RIVER BASIN COMMISSION

Commission Meeting

AGENCY: Susquehanna River Basin Commission.

ACTION: Notice.

SUMMARY: The Susquehanna River Basin Commission will hold its regular business meeting on June 15, 2018, in Baltimore, Maryland. Details concerning the matters to be addressed at the business meeting are contained in the Supplementary Information section of this notice.

DATES: The meeting will be held on Friday, June 15, 2018, at 9 a.m.

ADDRESSES: The meeting will be held at the Crowne Plaza Baltimore Downtown-Inner Harbor, Carroll Room, 105 West Fayette Street, Baltimore, MD 21201.

FOR FURTHER INFORMATION CONTACT: Gwyn Rowland, Manager, Governmental & Public Affairs, 717-238-0423, ext. 1316.

SUPPLEMENTARY INFORMATION: The business meeting will include actions or presentations on the following items: (1) Informational presentation of interest to the lower Susquehanna River region; (2) election of Commission officers for FY2019; (3) the proposed FY2019 Regulatory Program Fee Schedule; (4) adoption of a preliminary expense budget for FY2020; (5) adoption of member allocations for FY2020; (6) ratification/approval of contracts/grants; (7) a proposed records retention policy; (8) a resolution on delegation of settlement authority; (9) a report on delegated settlements; (10) the proposed Water Resources Program for fiscal years 2019 through 2021; (11) amendments to the Comprehensive Plan for the Water Resources of the Susquehanna River Basin; and (12) Regulatory Program projects.

Projects, the fee schedule, the records retention policy and amendments to the Comprehensive Plan listed for Commission action are those that were the subject of a public hearing conducted by the Commission on May 10, 2018, and identified in the notice for such hearing, which was published in 83 FR 15665, April 11, 2018.

The public is invited to attend the Commission's business meeting. Comments on the Regulatory Program projects, the fee schedule, the records retention policy and amendments to the Comprehensive Plan were subject to a deadline of May 21, 2018. Written comments pertaining to other items on the agenda at the business meeting may be mailed to the Susquehanna River Basin Commission, 4423 North Front Street, Harrisburg, Pennsylvania 17110-1788, or submitted electronically through http://www.srbc.net/pubinfo/publicparticipation.htm. Such comments are due to the Commission on or before June 8, 2018. Comments will not be accepted at the business meeting noticed herein.

Authority: Pub. L. 91-575, 84 Stat. 1509 et seq., 18 CFR parts 806, 807, and 808.

Dated: May 10, 2018.
Stephanie L. Richardson,
Secretary to the Commission.

[FR Doc. 2018-10349 Filed 5-14-18; 8:45 am]

BILLING CODE 7040-01-P